NATIONAL FOUNDATION FOR THE ARTS AND HUMANITIES

Proposed Collection, Comment Request, Analysis of Impact of Museum and Library Services

AGENCY: Institute of Museum and Library Services.

ACTION: Notice, request for comments.

SUMMARY: The Institute of Museum and Library Services, as part of its continuing effort to reduce paperwork and respondent burden, invites the general public and federal agencies to comment on proposed and/or continuing collections of information in accordance with the Paperwork Reduction Act of 1995 (PRA95) [44 U.S.C. 3508 (2)(A)]. This pre-clearance comment opportunity helps to ensure that: requested data can be provided in the desired format, reporting burden (time and financial resources) is minimized, collection instruments are clearly understood, and the impact of collection requirements on respondents can be properly assessed. The Institute of Museum and Library Services is currently soliciting comments concerning anticipated analyses of the impact of museum and library services.

A copy of the proposed information collection request can be obtained by contacting the individual listed below in the addressee section of this notice.

DATES: Written comments must be submitted to the office listed in the addressee section below on or before September 20, 2004.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to: Karen Motylewski, Research Officer, Institute of Museum and Library Services, 1100 Pennsylvania Ave., NW., Room 223, Washington, DC 20506. Ms Motylewski can be reached by fax: 202-606-0395; or by e-mail at Kmotylewski@imls.gov.

SUPPLEMENTARY INFORMATION: Background: The Institute of Museum and Library Services is charged with promoting the improvement of library and museum services for the benefit of the public. Through grantmaking and leadership activities, IMLS seeks to assure that libraries and museums are able to play an active role in cultivating an educated and engaged citizenry. IMLS builds the capacity of libraries and museums by encouraging the highest standards in management, public service, and education; leadership in the use of technology; strategic planning for results, and partnerships to create new networks that support lifelong learning and the effective management of assets.

According to its strategic plan, IMLS is dedicated to creating and sustaining a nation of learners by helping libraries and museum service their communities. IMLS believes that libraries and museums are key resources for education in the United States and promotes the vision of a learning society in which learning is seen as a community-wide responsibility supported by both formal and informal educational entities.

Current Actions

The reauthorization of the Museum and Library Services Act in 2003 creates new authority for IMLS to carry out and publish analyses of the impact of museum and library services. The Act stipulates that these analyses should be conducted in ongoing consultation with stakeholders including “State Library Administrative Agencies; state, regional, and national library and museum organizations and other relevant agencies.”

The Act further states that these analyses “shall identify national needs for and trends of museum and library services provided with IMLS support, * * * report on the impact and effectiveness of programs conducted with funds made available by the Institute in addressing such needs, * * * and identify, and disseminate information on, the best practices of such program.”

IMLS is developing a plan to address the requirements of the statute. As a first step, IMLS is requesting public comment to identify national needs for and trends in museum and library service. These comments will be used to identify areas in which analyses would be useful. The following questions are intended to assist stakeholders in identifying high priority areas that IMLS should explore through further research and study. Following this collection of public comment, IMLS will contact up to 50 key members of stakeholder groups for structured interviews regarding the list of possible topics for analysis. Both the public comment and results of the structured interviews will provide the foundation for IMLS to use in fulfilling this new requirement.

To comment please examine the following list. How would further exploration of these issues improve library and museum services in the United States? Which issues are of the greatest importance? Are there additional issues that should be added to the list?

A. How do changing community expectations impact library and museum services? How can libraries and museum respond to these expectations?

Representative issues:

• Altered patterns of information-seeking and learning.

• Changing educational patterns.

• Evolving roles of libraries and museums.

• Expectations for multi-institution and cross-disciplinary collaboration.

• Competition from alternative venues.

B. How do digital technology and the Web impact library and museum services? How can libraries and museums respond to challenges and benefit the public?

Representative issues:

• User expectations for seamless access to resources across organizational boundaries.

• Requirements for building and maintaining technology systems, products, and services.

• Desirability of integrating technology in management functions and services.

• Changing staff skill and knowledge requirements.

• Budget implications.

• Need to accommodate visitor/user skills and equipment needs (e.g., technical support, on-site equipment access, off-site equipment and connectivity).

C. What are the impacts of growing community diversity on library and museum service? How can museums and libraries respond to them?

Representative issues:

• Changing demography of local, regional, and national audiences.

• Altered educational norms.

• Institutional need to reflect visitor/user diversity.

• Need to address language and cultural diversity.

• Expanding definitions of access and barriers (e.g., ADA, Limited English Proficiency).

D. How do changes in requirements for institutional infrastructure that have occurred or are emerging impact library and museum service? How can museums and libraries respond to them?

Representative issues:

• Requirements for creation, maintenance, management, and accessibility of learning resources.

• Leadership and professional development, evolving requirements for staff skills.

• Development and fundraising challenges.

• Need to sustain public safety and security in parallel with public confidentiality and privacy.

• Need to provide broad access to resources in parallel with protection of intellectual property rights.

E. What are the challenges of developing and communicating a public value role for libraries and museums? How can museums and libraries respond to them?

Representative issues:

• Developing a strategy to be part of the community fabric to address unmet needs.

• Need to develop practical results-oriented evaluation tools and capacities.

• Expectations for outcomes- and impact-based reporting.

• Need to persuade policy and other decision-makers of competitive priority of museum/library services.

• Need to attract non-users and infrequent users; need to expand audiences.

F. What is the perception of educators, business leaders, community leaders and public policy makers on the impact of library and museum service in creating an educated and informed citizenry?

• Contribution to formal education.

• Contribution to civic engagement.

• Contribution to lifelong learning.

• Contribution to quality of community life.

• Contribution to family life.

Agency: Institute of Museum and Library Services.

Title: Analysis of Impact of Museum and Library Services.

OMB Number: n/a.

Agency Number: 3137.

Frequency: One time.

Affected Public: Museums, libraries and archives.

Number of Respondents: 50.

Estimated Time Per Respondent: 1 hour.

Total Burden Hours: 50.

Total Annualized capital/startup costs: 0.

Total Annual costs: 0.

Contact: Karen Motylewski, Research Officer, Office of Research and Technology, Institute of Museum and Library Services, 1100 Pennsylvania Avenue, NW., Washington, DC 20506, e-mail kmotylewski@imls.gov, telephone (202) 606-5551.

Dated: July 15, 2004.
Rebecca Danvers,
Director, Office of Research and Technology.

[FR Doc. 04-16533 Filed 7-20-04; 8:45 am]

BILLING CODE 7036-01-M